DEPARTMENT OF HEALTH AND HUMAN SERVICES

Indian Health Service

Request for Public Comment: 60 Day Information Collection: Indian Health Service Medical Staff Credentials

AGENCY: Indian Health Service, HHS.

ACTION: Notice and request for comments. Request for revision to a collection.

SUMMARY: In compliance with the Paperwork Reduction Act of 1995, the Indian Health Service (IHS) invites the general public to comment on the information collection titled, “Indian Health Service Medical Staff Credentials,” OMB Control Number 0917-0009, which expires February 29, 2020.

DATES: Comment Due Date: February 18, 2020. Your comments regarding this information collection are best assured of having full effect if received within 60 days of the date of this publication.

ADDRESSES: Send your written comments, requests for more information on the collection, or requests to obtain a copy of the data collection instrument and instructions to Juliana Sadovich by one of the following methods:

• Mail: Juliana Sadovich, Ph.D., RN, CPHQ, Director, Office of Quality, Indian Health Service, 5600 Fishers Lane, Mail Stop: 08N78, Rockville, MD 20857.

• Phone: 301-443-4330.

• Email: Juliana.Sadovich@ihs.gov.

SUPPLEMENTARY INFORMATION: This notice announces our intent to revise the collection already approved by OMB, and to solicit comments on specific aspects of the information collection. The purpose of this notice is to allow 60 days for public comment to be submitted to IHS. A copy of the supporting statement is available at www.regulations.gov (see Docket ID IHS-2019-01).

Information Collection Title: “Indian Health Service Medical Staff Credentials and Privileges Files, 0917-0009.” Type of Information Collection Request: Extension of an approved information collection, and revised to, “Indian Health Service Medical Staff Credentials, 0917-0009.” Form Numbers: 0917-0009. Need and Use of Information Collection: This collection of information is used to evaluate individual health care providers applying for medical staff privileges at IHS health care facilities. The IHS operates health care facilities that provide health care services to American Indians and Alaska Natives. To provide these services, the IHS employs (directly and under contract) several categories of health care providers including: Physicians (M.D. and D.O.), dentists, psychologists, optometrists, podiatrists, audiologists, physician assistants, certified registered nurse anesthetists, nurse practitioners, and certified nurse midwives. IHS policy specifically requires physicians and dentists to be members of the health care facility medical staff where they practice. Health care providers become medical staff members, depending on the local health care facility's capabilities and medical staff bylaws. There are three types of IHS medical staff applicants: (1) Health care providers applying for direct employment with IHS; (2) contractors who will not seek to become IHS employees; and (3) employed IHS health care providers who seek to transfer between IHS health care facilities.

National health care standards developed by the Centers for Medicare and Medicaid Services, the Joint Commission, and other accrediting organizations require health care facilities to review, evaluate and verify the credentials, training and experience of medical staff applicants prior to granting medical staff privileges. In order to meet these standards, IHS health care facilities require all medical staff applicants to provide information concerning their education, training, licensure, and work experience and any adverse disciplinary actions taken against them. This information is then verified with references supplied by the applicant and may include: Former employers, educational institutions, licensure and certification boards, the American Medical Association, the Federation of State Medical Boards, the National Practitioner Data Bank, and the applicants themselves.

In addition to the initial granting of medical staff membership and clinical privileges, Joint Commission standards require that a review of the medical staff be conducted not less than every two years. This review evaluates the current competence of the medical staff and verifies whether they are maintaining the licensure or certification requirements of their specialty.

The medical staff credentials and privileges records are maintained at the health care facility where the health care provider is a medical staff member. The establishment of these records at IHS health care facilities is a Joint Commission requirement. Prior to the establishment of this Joint Commission requirement, the degree to which medical staff applications were maintained at all health care facilities in the United States that are verified for completeness and accuracy varied greatly across the Nation.

The application process has been streamlined and is using information technology to make the application electronically available via the internet. The IHS is transforming credentialing, which include granting privileges, into a centrally installed, automated, standardized, electronic/digital, measurable, portable, accessible, and efficient business process to improve the effectiveness of application and re-application to Medical Staffs, movement of practitioners within the IHS system, and recruitment/retention of high-quality practitioners. The credentialing process no longer requires paper/pdf forms for granting privileges. The electronic credentialing system incorporates privileges as part of the overall process for credentialing, eliminating the need for paper, and allows tailoring the needs to site specifications. Privileges will differ across IHS Areas and clinics, in compliance with accreditation standards.

The adoption of a central source IT system for medical practitioner staff credentialing/privileging data will enhance the quality, accuracy, and efficiency of the IHS credentialing/privileging process, which is expected to improve the recruitment and retention rates of medical practitioner staff at IHS. Cost savings will be obtained through the termination of disparate business processes; reduction of paperwork duplication; and eliminating systems that do not provide IHS enterprise access to credentialing/privileging information. Additionally, communicating information electronically can reduce costs and errors, promote collaboration, ensure accreditation/privileging requirements are met, and help bring practitioners on board more quickly, which will improve recruitment and retention.

Affected Public: Individuals and households. Type of Respondents: Individuals.

The table below provides: Types of data collection instruments, Estimated number of respondents, Number of annual number of responses, Average burden per response, and Total annual burden hours.

Data collection instrument(s) | Estimated number of respondents | Responses per respondent | Average burden hour per response * | Total annual burden (current)
Initial Application to Medical Staff | 600 | 1 | 0.583 (35 min) | 350
Application Packet/Signature Documents | 1,300 | 1 | 0.167 (10 min) | 217
Reappointment Application to Medical Staff | 700 | 1 | 0.333 (20 min) | 233
Total | 2,600 |  |  | 800
* For ease of understanding, burden hours are provided in actual minutes.

Annual number of respondents were factored based on total IHS providers credentialed and privileged on the indicated cycles in the paragraphs above. There are no capital costs, operating costs and/or maintenance costs to respondents.

Requests for Comments: Your written comments and/or suggestions are invited on one or more of the following points: (a) Whether the information collection activity is necessary to carry out an agency function; (b) whether the agency processes the information collected in a useful and timely fashion; (c) the accuracy of public burden estimate (the estimated amount of time needed for individual respondents to provide the requested information); (d) whether the methodology and assumptions used to determine the estimate is logical; (e) ways to enhance the quality, utility, and clarity of the information being collected; and (f) ways to minimize the public burden through the use of automated, electronic, mechanical, or other technological collection techniques or other forms of information technology.

Chris Buchanan,
Deputy Director, RADM, Assistant Surgeon General, USPHS, Indian Health Service.

[FR Doc. 2019-27442 Filed 12-19-19; 8:45 am]

BILLING CODE 4165-16-P